DEPARTMENT OF HEALTH AND HUMAN SERVICES

Health Care Financing Administration

42 CFR Parts 410, 412, 413, and 485

[HCFA-1118-CN2]

RIN 0938-AK09

Medicare Program; Changes to the Hospital Inpatient Prospective Payment Systems and Fiscal Year 2001 Rates; Midyear Corrections Effective

December 1, 2000.

AGENCY: Health Care Financing Administration (HCFA), HHS.

ACTION: Final rule; correction notice.

SUMMARY: In the August 1, 2000 issue of the Federal Register (65 FR 47054), we published a final rule that revised the Medicare hospital inpatient prospective payment systems for operating costs and capital-related costs to implement necessary changes arising from our continuing experience with the system. This document corrects wage index and related data errors identified after October 1, 2000.

EFFECTIVE DATE: December 1, 2000.

FOR FURTHER INFORMATION CONTACT: Anne Tayloe, (410) 786-4546.

SUPPLEMENTARY INFORMATION: This document corrects a limited number of errors in the August 1, 2000 final rule (65 FR 47054) identified after October 1, 2000. We are making these changes in accordance with 42 CFR 412.63(x)(2)(i), which specifies that we may make midyear corrections to the wage index for an area only if a hospital can show that—

• The intermediary or HCFA made an error in tabulating the hospital's data; and

• The hospital could not have known about the error or did not have the opportunity to correct the error, before the beginning of the Federal fiscal year (in this case before the beginning of FY 2001). In addition, § 412.63(x)(2)(ii) specifies that midyear corrections are effective prospectively from the date that the change is made to the wage index. On December 1, 2000, we issued a program memorandum entitled “Corrections to the Calculation of Federal Fiscal Year (FY) 2001 Inpatient Payment Amounts” that made midyear corrections to the wage index (HCFA Pub. 60 A). This program memorandum included the midyear corrections presented in this notice; therefore, the effective date is the same as that of the program memorandum (December 1, 2000). The midyear corrections are as follows:

1. On page 47138, in Table 3C—Hospital Case Mix Indexes for Discharges Occurring in Federal Fiscal Year 1999; Hospital Average Hourly Wages for Federal Fiscal Year 2001 Wage Index, the average hourly wage for the specified provider is corrected to read as follows:

Provider | Case mix index | Average hourly wage
260027 | 1.6845 | 21.30

2. On pages 47149 through 47156, in Table 4A—Wage Index and Capital Geographic Adjustment Factor (GAF) for Urban Areas, the wage indexes and GAFs for the specified urban areas are corrected to read as follows:

| Urban area (constituent counties) | Wage index | GAF
0870 | Benton Harbor, MI ² | 0.9003 | 0.9306
3080 | Green Bay, WI | 0.9339 | 0.9542
3640 | Jersey City, NJ | 1.1318 | 1.0885
3660 | Johnson City-Kingsport-Bristol, TN-VA | 0.8318 | 0.8815
3760 | Kansas City, KS-MO¹ | 0.9527 | 0.9674
5640 | Newark, NJ¹ | 1.0890 | 1.0601
7485 | Santa Cruz-Watsonville, CA | 1.4040 | 1.2616
7600 | Seattle-Bellevue-Everett, WA¹ | 1.1018 | 1.0686
¹ Large Urban Area.
² Hospitals geographically located in the area are assigned the statewide rural wage index for FY 2001.

3. On page 47156, in Table 4B—Wage Index and Capital Geographic Adjustment Factor (GAF) for Rural Areas, the wage indexes and GAFs for the specified nonurban are corrected to read as follows:

Nonurban area | Wage index | GAF
Michigan | 0.9003 | 0.9306

4. On page 47156 through 47157, in Table 4C—Wage Index and Capital Geographic Adjustment Factor (GAF) for Hospitals that are Reclassified, the wage indexes and GAFs for the specified areas are added or corrected to read as follows:

Area reclassified to | Wage index | GAF
Benton Harbor, MI | 0.9003 | 0.9306
Green Bay, WI | 0.9339 | 0.9542
Jackson, MS | 0.8679 | 0.9075
Jersey City, NJ ¹ |  |
Johnson City-Kingsport-Bristol, TN-VA | 0.8318 | 0.8815
Kansas City, KS-MO | 0.9527 | 0.9674
Las Cruces, NM¹ |  |
Salinas, CA ¹ |  |
Santa Cruz-Watsonville, CA | 1.3861 | 1.2505
Seattle-Bellevue-Everett, WA | 1.1018 | 1.0686
Sioux City, IA-NE ¹ |  |
Sioux Falls, SD | 0.8790 | 0.9155
Rural Michigan | 0.9003 | 0.9306
¹ No hospitals are reclassified to the area.

5. On page 47158, in Table 4D_Average Hourly Wage for Urban Areas, the hourly wage for the specified urban area is corrected to read as follows:

Urban area | Average hourly wage
Kansas City, KS-MO | 20.7416

(Catalog of Federal Domestic Assistance Program No. 93.773 Medicare—Hospital Insurance)

Dated: February 22, 2001.
William E. Clark,
Acting, Deputy Assistant Secretary for Information Resource Management.

[FR Doc. 01-5108 Filed 3-1-01; 8:45 am]

BILLING CODE 4120-01-P